DEPARTMENT OF HOMELAND SECURITY

Federal Emergency Management Agency

44 CFR Part 67

[Docket ID FEMA-2010-0003; Internal Agency Docket No. FEMA-B-1091]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before May 6, 2010.

ADDRESSES: The corresponding preliminary Flood Insurance Rate Map (FIRM) for the proposed BFEs for each community is available for inspection at the community's map repository. The respective addresses are listed in the table below.

You may submit comments, identified by Docket No. FEMA-B-1091, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Hot Spring County, Arkansas, and Incorporated Areas
Chatman Creek | Approximately 900 feet downstream of Grigsby Ford Road | None | +254 | Unincorporated Areas of Hot Spring County.
| Just upstream of State Highway 9 | None | +307
Rockport Creek | Approximately 2,300 feet downstream of Martin Luther King Boulevard | None | +260 | Unincorporated Areas of Hot Spring County.
| Approximately 1,300 feet downstream of Martin Luther King Boulevard | None | +263
Town Creek | Approximately 2,300 feet downstream of Walco Road | None | +253 | Unincorporated Areas of Hot Spring County.
| Just downstream of Mount Willow Road | None | +298
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Hot Spring County
Maps are available for inspection at 210 Locust Street, Malvern, AR 72104.
Logan County, Arkansas, and Incorporated Areas
Arkansas River | Just upstream of State Highway 109 | None | +351 | Town of Morrison Bluff.
Booneville Creek | Approximately 0.75 mile upstream of confluence with Petit Jean River | None | +443 | City of Booneville.
Booneville Creek Tributary No. 1 | Just upstream of the City of Booneville/Logan County southeast boundary | None | +446 | City of Booneville.
Cane Creek | Flooding effects near 5th Street and the Tributary of Cane Creek | None | +352 | Town of Scranton.
| Flooding effects just southeast of 5th and Cherry Streets, near the Town of Scranton's southeast boundary | None | +355
Petit Jean River | Just upstream of the City of Booneville/Logan County southeast boundary | None | +443 | City of Booneville.
Short Mountain Creek Tributary | Just upstream of confluence with Short Mountain Creek | None | +375 | Unincorporated Areas of Logan County.
| Just upstream of Cherry Street | None | +425
| Approximately 1,800 feet upstream of Cherry Street | None | +432
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Booneville
Maps are available for inspection at 497 East Main Street, Suite A, Booneville, AR 72927.
Town of Morrison Bluff
Maps are available for inspection at 22189 North Highway 109, Scranton, AR 72863.
Town of Scranton
Maps are available for inspection at 203 Park Avenue, Scranton, AR 72863.
Unincorporated Areas of Logan County
Maps are available for inspection at the OEM Training Center, 205 East Maple Street, Paris, AR 72855.
St. James Parish, Louisiana, and Incorporated Areas
Mississippi River | Approximately 0.9 mile downstream of State Highway 3213 | None | +27 | Unincorporated Areas of St. James Parish, Town of Gramercy, Town of Lutcher.
| Approximately 1.2 mile upstream of State Highway 3213 | None | +28
Storage Areas from the Gulf (D2G model) | Approximately 1,079 feet south of State Highway 643 | None | +1 | Unincorporated Areas of St. James Parish.
| Approximately 60 feet south of the intersection of Sidney Road and Missouri Pacific Railroad, along the east side of the rail line | None | +14
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of Gramercy
Maps are available for inspection at 120 North Montz Avenue, Gramercy, LA 70052.
Town of Lutcher
Maps are available for inspection at 2500 Louisiana Avenue, Lutcher, LA 70071.
Unincorporated Areas of St. James Parish
Maps are available for inspection at 5800 Highway 44, Convent, LA 70723.
Caddo County, Oklahoma, and Incorporated Areas
Deer Creek East Tributary | Approximately 250 feet upstream of N2480 Road | +1,486 | +1,484 | Unincorporated Areas of Caddo County.
| Approximately 1,700 feet upstream of N2480 Road | +1,501 | +1,503
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Caddo County
Maps are available for inspection at the County Courthouse, 201 West Oklahoma Avenue, Room 11, Anadarko, OK 73005.
Hopkins County, Texas, and Incorporated Areas
Coleman Creek | Approximately 0.56 mile upstream of State Highway 19 | None | +437 | Unincorporated Areas of Hopkins County.
| Approximately 600 feet upstream of State Highway 19 | None | +445
Gena Creek | Just upstream of FM Road 1870 | None | +440 | Unincorporated Areas of Hopkins County.
| Approximately 1.04 mile upstream of FM Road 1870 | None | +457
Rock Creek | Just downstream of unnamed railroad | None | +421 | Unincorporated Areas of Hopkins County.
| Approximately 500 feet upstream of Holiday Drive | None | +476
Turtle Creek | Just upstream of State Highway 11 | None | +481 | Unincorporated Areas of Hopkins County.
| Just upstream of unnamed railroad | None | +494
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Hopkins County
Maps are available for inspection at the County Courthouse, 118 Church Street, Sulphur Springs, TX 75483.
Robertson County, Texas, and Incorporated Areas
Little Brazos River | At the confluence with Lost Creek | None | +268 | Unincorporated Areas of Robertson County.
| Just downstream of Gifford Hill Road | None | +276
Lost Creek | At the confluence with the Little Brazos River | None | +268 | Unincorporated Areas of Robertson County.
| Just downstream of Union Pacific Railroad | None | +272
| Approximately 1,900 feet downstream of Black Jack Road | None | +305
| Approximately 800 feet upstream of Old Henry Prairie Road | None | +338
Sandy Creek | At the confluence with the Little Brazos River | None | +274 | Unincorporated Areas of Robertson County.
| Just downstream of Vaughn Lane | None | +287
| Just upstream of the Union Pacific Railroad | None | +302
| Approximately 1,970 feet upstream of the confluence with Sandy Creek Tributary 3 | None | +320
Sandy Creek Tributary 2 | At the confluence with Sandy Creek | None | +312 | Unincorporated Areas of Robertson County.
| Approximately 1,400 feet upstream of the confluence with Sandy Creek | None | +314
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Robertson County
Maps are available for inspection at P.O. Box 427, Franklin, TX 77856.

(Catalog of Federal Domestic Assistance No. 97.022, “Flood Insurance.”)

Sandra K. Knight,
Deputy Assistant Administrator for Mitigation, Department of Homeland Security, Federal Emergency Management Agency.

[FR Doc. 2010-2493 Filed 2-4-10; 8:45 am]

BILLING CODE 9110-12-P